ENVIRONMENTAL PROTECTION AGENCY

40 CFR Part 52

[EPA-HQ-OAR-2016-0598; FRL-9956-30-OAR]

RIN 2060-AT16

Interstate Transport of Fine Particulate Matter: Revision of Federal Implementation Plan Requirements for Texas

AGENCY: Environmental Protection Agency (EPA).

ACTION: Proposed rule; extension of comment period.

SUMMARY: The Environmental Protection Agency (EPA) is extending the public comment period for the proposed rule titled “Interstate Transport of Fine Particulate Matter: Revision of Federal Implementation Plan Requirements for Texas” published in the Federal Register on November 10, 2016.

DATES: Comments must be received on or before January 9, 2017.

ADDRESSES: The EPA has established docket number EPA-HQ-OAR-2016-0598 for this action. Follow the instructions for submitting comments provided under ADDRESSES in the November 10, 2016 proposal (81 FR 78954).

FOR FURTHER INFORMATION CONTACT: For additional information on this action, contact Robert L. Miller, Clean Air Markets Division, Office of Atmospheric Programs (Mail Code 6204M), Environmental Protection Agency, 1200 Pennsylvania Avenue NW., Washington, DC 20460; telephone number: (202) 343-9077; email address: Miller.RobertL@epa.gov.

SUPPLEMENTARY INFORMATION: In the proposed rule titled “Interstate Transport of Fine Particulate Matter: Revision of Federal Implementation Plan Requirements for Texas” (81 FR 78954, November 10, 2016), the EPA established a public comment period ending on December 12, 2016. The EPA received multiple requests for an extension of this period. In order to ensure that the public has sufficient time to review and comment on the proposal, the EPA is extending the public comment period to end on January 9, 2017.

List of Subjects in 40 CFR Part 52

Environmental protection, Administrative practice and procedure, Air pollution control, Electric power plants, Incorporation by reference, Intergovernmental relations, Nitrogen oxides, Ozone, Particulate matter, Regional haze, Reporting and recordkeeping requirements, Sulfur dioxide.

Dated: December 2, 2016.
Sarah Dunham,
Director, Office of Atmospheric Programs.

[FR Doc. 2016-29442 Filed 12-7-16; 8:45 am]

BILLING CODE 6560-50-P